DEPARTMENT OF COMMERCE

International Trade Administration

[C-791-810]

Amended Final Affirmative Countervailing Duty Determination: Certain Hot-Rolled Carbon Steel Flat Products From South Africa

AGENCY: Import Administration, International Trade Administration Department of Commerce.

ACTION: Notice of amended final affirmative countervailing duty investigation.

SUMMARY: On October 3, 2001, the Department of Commerce (the Department) published in the Federal Register its final affirmative determination in the countervailing duty investigation of certain hot-rolled carbon steel flat products from South Africa. The Department is now amending its final affirmative determination to correct a ministerial error in the calculations. The amended final subsidy rates are listed below in the “Subsidy Rates” section of this notice.

EFFECTIVE DATE: November 16, 2001.

FOR FURTHER INFORMATION CONTACT: Sally C. Gannon at (202) 482-0162, Mark Hoadley at (202) 482-0666, or Julio Fernandez at (202) 482-0190, Office of AD/CVD Enforcement VII, Group III, Import Administration, International Trade Administration, U.S. Department of Commerce, Room 7866, 14th Street and Constitution Avenue, NW., Washington, DC 20230.

SUPPLEMENTARY INFORMATION:

Applicable Statute and Regulations

Unless otherwise indicated, all citations to the statute are references to the Tariff Act of 1930 (the Act), as amended. In addition, unless otherwise indicated, all citations to the Department's regulations are to the regulations codified at 19 CFR part 351 (2000).

Background

On October 3, 2001, the Department published its Final Affirmative Countervailing Duty Determination: Certain Hot-Rolled Carbon Steel Flat Products from South Africa, 66 FR 50412 (October 3, 2001). On October 3, 2001, Saldanha Steel Ltd. (Saldanha Steel), one of three respondents in this investigation, submitted comments to the Department alleging two ministerial errors in the calculation of the combined Saldanha Steel/Iscor Ltd. (Iscor) countervailable subsidy rate (Iscor is another respondent in this investigation). Specifically, Saldanha Steel contends that the Department made ministerial errors in calculating the benefit from loan guarantees provided by the Industrial Development Corporation (IDC), and in calculating the benefit from the Findevco Ltd. loan. On October 9, 2001, petitioners in this investigation rebutted Saldanha Steel's allegations by stating that they did not relate to errors of a ministerial nature.

Scope of the Investigation

The merchandise subject to this investigation is certain hot-rolled carbon steel flat products of a rectangular shape, of a width of 0.5 inch or greater, neither clad, plated, nor coated with metal and whether or not painted, varnished, or coated with plastics or other non-metallic substances, in coils (whether or not in successively superimposed layers), regardless of thickness, and in straight lengths, of a thickness of less than 4.75 mm and of a width measuring at least 10 times the thickness. Universal mill plate (i.e., flat-rolled products rolled on four faces or in a closed box pass, of a width exceeding 150 mm, but not exceeding 1250 mm, and of a thickness of not less than 4 mm, not in coils and without patterns in relief) of a thickness not less than 4.0 mm is not included within the scope of this investigation.

Specifically included within the scope of this investigation are vacuum degassed, fully stabilized (commonly referred to as interstitial-free (IF)) steels, high strength low alloy (HSLA) steels, and the substrate for motor lamination steels. IF steels are recognized as low carbon steels with micro-alloying levels of elements such as titanium or niobium (also commonly referred to as columbium), or both, added to stabilize carbon and nitrogen elements. HSLA steels are recognized as steels with micro-alloying levels of elements such as chromium, copper, niobium, vanadium, and molybdenum. The substrate for motor lamination steels contains micro-alloying levels of elements such as silicon and aluminum.

Steel products included in the scope of this investigation, regardless of definitions in the Harmonized Tariff Schedule of the United States (HTSUS), are products in which: (i) iron predominates, by weight, over each of the other contained elements; (ii) the carbon content is 2 percent or less, by weight; and (iii) none of the elements listed below exceeds the quantity, by weight, respectively indicated:

1.80 percent of manganese, or

2.25 percent of silicon, or

1.00 percent of copper, or

0.50 percent of aluminum, or

1.25 percent of chromium, or

0.30 percent of cobalt, or

0.40 percent of lead, or

1.25 percent of nickel, or

0.30 percent of tungsten, or

0.10 percent of molybdenum, or

0.10 percent of niobium, or

0.15 percent of vanadium, or

0.15 percent of zirconium.

All products that meet the physical and chemical descriptions provided above are within the scope of this investigation unless otherwise excluded. The following products, by way of example, are outside or specifically excluded from the scope of this investigation:

• Alloy hot-rolled steel products in which at least one of the chemical elements exceeds those listed above (including, e.g., American Society for Testing and Materials (ASTM) specifications A543, A387, A514, A517, A506).

• Society of Automotive Engineers (SAE)/American Iron & Steel Institute (AISI) grades of series 2300 and higher.

• Ball bearings steels, as defined in the HTSUS.

• Tool steels, as defined in the HTSUS.

• Silico-manganese (as defined in the HTSUS) or silicon electrical steel with a silicon level exceeding 2.25 percent.

• ASTM specifications A710 and A736.

• USS Abrasion-resistant steels (USS AR 400, USS AR 500).

• All products (proprietary or otherwise) based on an alloy ASTM specification (sample specifications: ASTM A506, A507).

• Non-rectangular shapes, not in coils, which are the result of having been processed by cutting or stamping and which have assumed the character of articles or products classified outside chapter 72 of the HTSUS.

The merchandise subject to this investigation is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7211.14.00.90, 7211.19.15.00, 7211.19.20.00, 7211.19.30.00, 7211.19.45.00, 7211.19.60.00, 7211.19.75.30, 7211.19.75.60, and 7211.19.75.90. Certain hot-rolled carbon steel flat products covered by this investigation, including vacuum degassed fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Subject merchandise may also enter under 7210.70.30.00, 7210.90.90.00, 7211.14.00.30, 7212.40.10.00, 7212.40.50.00, and 7212.50.00.00. Although the HTSUS subheadings are provided for convenience and U.S. Customs purposes, the Department's written description of the merchandise under investigation is dispositive.

Amended Final Determination

Saldanha Steel's first allegation is that we made a ministerial error in our calculation of the benefit from loan guarantees provided by the IDC by calculating the difference between the IDC's guarantee fee and a commercial guarantee fee, as well as the difference between the actual interest rate and a commercial interest rate for an unguaranteed loan. We disagree. We believe that Saldanha Steel's allegation constitutes an argument with the Department's methodology in calculating the benefit from these loan guarantees, rather than a ministerial error. Section 351.224(f) of the Department's regulations defines a ministerial error as “an error in addition, subtraction, or other arithmetic function, clerical error resulting from inaccurate copying, duplication, or the like, and any other similar type of unintentional error which the Secretary considers ministerial.” 19 CFR 351.224(f). Saldanha Steel's disagreement with our method for calculating the benefit from the guarantee program does not constitute an allegation of an “unintentional error.” The Department intentionally used the formula described above, as well as an unguaranteed commercial loan benchmark, in calculating the amount of the benefit. See Memorandum from Joseph Spetrini to Faryar Shirzad, Regarding Issues and Decision Memorandum in the Final Affirmative Countervailing Duty Determination: Certain Hot-Rolled Carbon Steel Flat Products from South Africa (September 21, 2001), at 17. Likewise, the Department explicitly and intentionally rejected the use of Saldanha Steel's actual loans as possible benchmarks. Id., at 8.

Saldanha Steel's second allegation is that we made a ministerial error in our calculation of the benefit from the Findevco Ltd. loan. Saldanha Steel claims that the Department verified that it made actual and scheduled interest payments before 2003 on the loan it received from Findevco Ltd., which loan was determined to be countervailable by the Department, and that such interest payments were omitted from the calculation. We agree that this omission constitutes a ministerial error within the meaning of section 351.224(f) of the Department's regulations. We have, therefore, corrected our calculation to include these payments.

This correction resulted in the total combined countervailable subsidy rate attributable to Saldanha Steel and Iscor decreasing from 6.37 percent ad valorem to 5.76 percent ad valorem. Because the “all others” rate is based on the combined Saldanha Steel and Iscor rate, the correction also results in an identical change in the “all others” rate.

Subsidy Rates

Producer/exporter | Subsidy rate
Saldanha Steel/Iscor | 5.76 % Ad Valorem.
All Others | 5.76 % Ad Valorem.

This determination is issued and published pursuant to section 351.224(e) of the Department's regulations.

Dated: November 8, 2001.
Faryar Shirzad,
Assistant Secretary for Import Administration.

[FR Doc. 01-28756 Filed 11-15-01; 8:45 am]

BILLING CODE 3510-DS-P